DEPARTMENT OF COMMERCE

National Oceanic and Atmospheric Administration

Proposed Information Collection; Comment Request; Elwha River Dam Removal and Floodplain Restoration Ecosystem Service Valuation Pilot Project

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Anthony Dvarskas (732) 872-3090 or Anthony.Dvarskas@noaa.gov.

SUPPLEMENTARY INFORMATION:

I. Abstract

This request is for a new information collection.

National Ocean Services' Office of Response and Restoration, Assessment and Restoration Division and the National Marine Fisheries Services' Office of Habitat Conservation are requesting approval for a new information collection to conduct a pilot study to test the Elwha River Dam Removal and Floodplain Restoration Ecosystem Service Valuation Survey it has developed.

The removal of two hydroelectric dams on the Elwha River is one of the largest dam-removal projects in U.S. history. This project, along with restoration actions planned for the floodplain and drained reservoir basins, will have numerous impacts to people of the surrounding region. Impacted groups include recreators who engage in river activities such as fishing and rafting, reservoir users, and members of Native American tribes for whom the river has cultural, environmental, and economic significance. The dam removal and restoration actions could also have value to people throughout the Pacific Northwest, regardless of whether they visit the Elwha River or Olympic Peninsula. Such nonuse value may be significant because the dam removal and habitat restoration will restore the river to more natural conditions and will restore populations of salmon and other fish species as well as forests and wildlife. This project will also address an important gap in research on indirect and nonuse values provided by habitat restoration.

A study of the value of ecological restoration is of particular interest in this location because significant baseline ecological data are available to allow a comparison of ecological values with some of the more obvious use losses associated with the reservoir. The ability to link results of the study to precise measures of ecosystem changes will be useful in applying the study to future restoration sites, enabling NOAA to evaluate a broader range of ecosystem services provided by future restoration actions.

NOAA has developed a nonmarket valuation survey to administer to people living in Washington and Oregon. This survey has been tested with small focus groups and one-on-one interviews to ensure the survey questions and choice scenarios presented are accurate, easily understood, and the least burdensome. The next step in the survey development process is to administer a pilot study of the draft survey instrument to test several, complex methodological approaches for presenting information to respondents. In particular, NOAA plans to test several variations of the choice table.

II. Method of Collection

The proposed pilot survey would be administered in two waves. In the first wave, Knowledge Networks (KN) would administer the survey online, to its existing KnowledgePanel™ in Washington and Oregon, with a goal of achieving 1,050 completed surveys. Using the KnowledgePanel™ will allow NOAA to test different ways of presenting information to respondents. Because NOAA ultimately plans to administer the final survey instrument using a mail mode, the second wave would be administered by mail with a goal of achieving 250 completed surveys. The information gained from the testing in KnowledgePanel™ will be used to select and administer one of the approaches for presenting the information in a mail mode.

III. Data

OMB Control Number: None.

Form Number: None.

Type of Review: Regular submission (request for a new information collection).

Affected Public: Individuals or households.

Estimated Number of Respondents: 1,300.

Estimated Time per Response: 30 minutes.

Estimated Total Annual Burden Hours: 650.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 6, 2012.
Gwellnar Banks,
Management Analyst, Office of the Chief Information Officer.

[FR Doc. 2012-22364 Filed 9-11-12; 8:45 am]

BILLING CODE 3510-JE-P